DEPARTMENT OF ENERGY

Federal Energy Regulatory Commission

[Docket No. AD21-15-000]

Joint Federal-State Task Force on Electric Transmission; Notice of Meeting

As first announced in the Commission's August 30, 2021 order in the above-captioned docket,¹ the first public meeting of the Joint Federal-State Task Force on Electric Transmission (Task Force) will be held on Wednesday, November 10, 2021, from approximately 1:00 p.m. to 6:00 p.m. Eastern time. The meeting will be held at the Omni Louisville Hotel in Louisville, Kentucky. Commissioners may attend and participate in this meeting. Attached to this Notice is an agenda for the meeting.

¹ Joint Federal-State Task Force on Electric Transmission, 176 FERC ¶ 61,131 (2021).

Discussions at the meeting may involve issues raised in proceedings that are currently pending before the Commission. These proceedings include, but are not limited to:

| Docket No.
NextEra Energy SeaBrook, LLC | EL21-3-000
NECEC Transmission LLC and Avangrid, Inc. v. NextEra Energy Resources, LLC | EL21-6-000
Neptune Regional Transmission System, LLC and Long Island Power Authority v. PJM Interconnection, L.L.C | EL21-39-000
SOO Green HVDC Link ProjectCo, LLC v. PJM Interconnection, L.L.C | EL21-85-000
Duke Energy Florida, LLC v. Florida Power & Light Co. and Florida Power & Light Co. d/b/a Gulf Power | EL21-93-000
ISO New England Inc | EL21-94-000

The meeting will be open to the public for listening and observing and on the record. There is no fee for attendance and registration is not required. The public may attend in person or via audio Webcast.² In light of the ongoing National Emergency concerning the Novel Coronavirus Disease (COVID-19), in-person seating for the conference will be limited and not guaranteed. Therefore, the public is encouraged to attend via audio Webcast. This conference will be transcribed. Transcripts will be available for a fee from Ace Reporting, 202-347-3700.

² A link to the Webcast will be available here on the day of the event: https://www.ferc.gov/TFSOET.

Commission conferences are accessible under section 508 of the Rehabilitation Act of 1973. For accessibility accommodations, please send an email to accessibility@ferc.gov or call toll free 1-866-208-3372 (voice) or 202-208-8659 (TTY), or send a fax to 202-208-2106 with the required accommodations.

More information about the Task Force, including frequently asked questions, is available here: https://www.ferc.gov/TFSOET. For more information about this meeting, please contact: Gretchen Kershaw, 202-502-8213, gretchen.kershaw@ferc.gov; or Jennifer Murphy, 202-898-1350, jmurphy@naruc.org. For information related to logistics, please contact Benjamin Williams, 202-502-8506, benjamin.williams@ferc.gov; or Rob Thormeyer, 202-502-8694, robert.thormeyer@ferc.gov.

Dated: October 27, 2021.
Kimberly D. Bose,
Secretary.

[FR Doc. 2021-23864 Filed 11-1-21; 8:45 am]

BILLING CODE 6717-01-P